FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012155-003.

Title: MSC/Zim South America East Coast Vessel Sharing Agreement.

Parties: Mediterranean Shipping Co. S.A. and Zim Intergrated Shipping Services Ltd.

Filing Party: Mark E. Newcomb; Zim American Integrated Shipping Services Company, LLC; 5801 Lake Wright Drive, Norfolk, VA 23508.

Synopsis: The amendment would revise the vessel contribution of the parties, delineate the allocation of capacity on each sailing, and delete the minimum duration provisions.

Agreement No.: 012297-002.

Title: ECNA/ECSA Vessel Sharing Agreement.

Parties: Hamburg Sud; Alianca Navegacao e Logistica Ltds. e CIA; Companhia Libra de Navegacao; Compania Libra de Navegacion Uruguay S.A.; Hapag-Lloyd AG; and Nippon Yusen Kabushiki Kaisha.

Filing Party: Wayne Rohde, Esq.; Cozen O'Connor; 1200 19th Street NW., Washington, DC 20036.

Synopsis: The agreement would delete NYK and Compania Libra de Navegacion Uruguay S.A as parties to the agreement and revise the vessel provision, space allocation provisions, and other language in the agreement accordingly.

Agreement No.: 012362.

Title: Hoegh/SC Line S.A. Mexico Jamaica Space Charter Agreement.

Parties: Hoegh Autoliners AS and SC Line S.A.

Filing Party: Wayne Rohde, Esq.; Cozen O'Connor; 1200 19th Street NW., Washington, DC 20036.

Synopsis: The agreement authorizes the parties to charter space from/to one another from Mexico to the East and Gulf Coasts of the U.S., and from the East and Gulf Coasts of the U.S. to Jamaica.

Agreement No.: 012363.

Title: The “K” Line/SC Line Space Charter and Sailing Agreement.

Parties: Kawasaki Kisen Kaisha, Ltd. and SC Line, S.A.

Filing Party: Joe De Braga; Global Maritime Transportation Services, Inc.; 120 Graham Way, Suite 170, Shelburne, VT 05482.

Synopsis: The agreement authorizes “K” Line to charter space to SC Line in the trade between (a) Jacksonville, FL on the one hand, and Mexico, Panama, Colombia, Brazil and Argentina on the other hand; (b) Galveston, TX and Mexico; (c) Eastern Spain and Northern Europe, on the one hand, and Jacksonville, FL and Veracruz, Mexico, on the other hand.

Agreement No.: 012364.

Title: HSDG/YML Space Charter Agreement.

Parties: Hamburg-Sud and Yang Ming Marine Transport Corp.

Filing Party: Wayne Rohde, Esq.; Cozen O'Connor; 1200 19th Street NW., Washington, DC 20036.

Synopsis: The agreement would authorize Hamburg-Sud to charter space to Yang Ming in the trade between the ports on the U.S. East Coast and ports in Argentina, Uruguay and Brazil. The parties have requested expedited review.

By Order of the Federal Maritime Commission.
Dated: October 2, 2015.
Karen V. Gregory,
Secretary.

[FR Doc. 2015-25580 Filed 10-6-15; 8:45 am]

BILLING CODE 6731-AA-P